SMALL BUSINESS ADMINISTRATION

[Applicant No. 99000444]

First Capital Group of Texas III, L.P.; Notice Seeking Exemption Under Section 312 of the Small Business Investment Act, Conflicts of Interest

Notice is hereby given that First Capital Group of Texas III, L.P., 750 E. Mulberry, Suite 305, San Antonio, Texas 78212, an applicant for a Federal License under the Small Business Investment Act of 1958, as amended (“the Act”), in connection with the financing of a small concern, has sought an exemption under section 312 of the Act and section 107.730, Financings which Constitute Conflicts of Interest of the Small Business Administration (“SBA”) rules and regulations (13 CFR 107.730 (2000)). First Capital Group of Texas III, L.P. proposes to provide equity/debt security financing to BEI Group, Inc.,1051 East Nakoma, San Antonio, Texas 78216. The financing is contemplated for the purpose of providing working capital.

The financing is brought within the purview of Sec. 107.730(a)(1) of the Regulations because First Capital Group of Texas II, L.P., an Associate of First Capital Group of Texas III, L.P., currently owns greater than 10 percent of BEI Group, Inc. and therefore BEI Group, Inc. is considered an Associate of First Capital Group of Texas III, L.P. as defined in Sec. 107.50 of the SBA Regulations.

Notice is hereby given that any interested person may submit written comments on the transaction to the Associate Administrator for Investment, U.S. Small Business Administration, 409 Third Street, SW, Washington, DC 20416.

Dated: April 27, 2001.
Harry Haskins,
Acting Associate Administrator for Investment.

[FR Doc. 01-11540 Filed 5-7-01; 8:45 am]

BILLING CODE 8025-01-P